DEPARTMENT OF THE INTERIOR

National Park Service

Notice of Inventory Completion: New York University College of Dentistry, New York, NY

AGENCY: National Park Service, Interior.

ACTION: Notice.

Notice is here given in accordance with the Native American Graves Protection and Repatriation Act (NAGPRA), 25 U.S.C. 3003, of the completion of an inventory of human remains in the possession and control of the New York University College of Dentistry, New York, NY. The human remains were removed from the cemetery at Kienuka, Niagara County, NY.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by the New York University College of Dentistry professional staff in consultation with representatives of the Tuscarora Nation of New York.

In 1903, human remains representing a minimum of two individuals were removed from the cemetery at Kienuka in Niagara County, NY, by John MacKay. The remains were subsequently added to the collection of William MacKay, John MacKay's brother. The Museum of the American Indian, Heye Foundation, purchased William MacKay's collection in 1918. In 1956, the Museum of the American Indian transferred the remains to Dr. Theodore Kazamiroff, New York University College of Dentistry. No known individuals were identified. No associated funerary objects are present.

Kienuka is located within the boundaries of the Tuscarora Reservation, which was established in 1797. The removal occurred prior to the Antiquities Act, and, therefore, the U.S. Department of the Interior, Bureau of Indian Affairs, is not asserting control. Archival and historical records suggest that the removal of the remains was not authorized by the Tuscarora Nation and that a law enforcement official from the Tuscarora Nation investigated the desecration of the cemetery but was unable to arrest anyone.

Kienuka was a Neutral village of the early 17th century, and the morphology of the remains is consistent with individuals of Native American ancestry. The Neutral were a confederacy of Iroquoian speakers who lived to the south and north of the eastern half of Lake Erie. Their name was derived from the neutral position they occupied geographically and sociopolitically between the Huron and Iroquois Confederacies. Between 1647 and 1651, the Neutral coalition was fractured and its people were decimated as a result of warfare with the Iroquois nations. The Neutral ceased to be identified as a distinct group by 1660.

In 1713, the Tuscarora migrated to New York from North Carolina. The Tuscarora were adopted as the sixth nation of the Iroquois Confederacy in 1722 and 1723. After the Revolutionary War, the Tuscarora settled on the east side of the Niagara River. The Tuscarora Nation received their land grant, which includes portions of Niagara County, in 1797. Their reservation was subsequently expanded and continues to include the site of Kienuka.

Officials of the New York University College of Dentistry have determined that, pursuant to 25 U.S.C. 3001(9), the human remains described above represent the physical remains of two individuals of Native American ancestry. Officials of the New York University College of Dentistry also have determined that, pursuant to 25 U.S.C. 3001(2), a relationship of shared group identity cannot be reasonably traced between the Native American human remains and any present-day Indian tribe.

The Native American Graves Protection and Repatriation Review Committee (Review Committee) is responsible for recommending specific actions for disposition of culturally unidentifiable human remains. In July 2009, the New York University College of Dentistry requested that the Review Committee recommend disposition of the culturally unidentifiable human remains of two individuals to the Tuscarora Nation of New York. The Review Committee considered the proposal at its October 30-31, 2009, meeting and recommended disposition of the human remains to the Tuscarora Nation of New York.

A March 4, 2010, letter from the Designated Federal Official, writing on behalf of the Secretary of the Interior, transmitted the authorization for the College to effect disposition of the physical remains to the Tuscarora Nation of New York, contingent on the publication of a Notice of Inventory Completion in the Federal Register. This notice fulfills that requirement.

Representatives of any other Indian tribe that believes itself to be culturally affiliated with the human remains should contact Dr. Louis Terracio, New York University College of Dentistry, 345 East 24th St., New York, NY 10010, telephone (212) 998-9917, before July 12, 2010. Disposition of the human remains to the Tuscarora Nation of New York may proceed after that date if no additional claimants come forward.

The New York University College of Dentistry is responsible for notifying the Tuscarora Nation of New York that this notice has been published.

Dated: May 27, 2010
David Tarler,
Acting Manager, National NAGPRA Program.

[FR Doc. 2010-14039 Filed 6-10-10; 8:45 am]

BILLING CODE 4312-50-S